SMALL BUSINESS ADMINISTRATION

Small Business Size Standards: Waiver of the Nonmanufacturer Rule

AGENCY: U.S. Small Business Administration.

ACTION: Notice of intent to Waive the Nonmanufacturer Rule for Re-refining Used Petroleum Lubricating Oils (MIL-PRF-2104, Type 10W; Type 15W40; Type 30W; and Type 40W).

SUMMARY: The U.S. Small Business Administration (SBA) is considering granting a request for a waiver of the Nonmanufacturer Rule for Re-refining Used Petroleum Lubricating Oils (MIL-PRF-2104, Type 10W; Type 15W40; Type 30W; and Type 40W). According to the request, no small business manufacturers supply these classes of products to the Federal Government. If granted, the waiver would allow otherwise qualified regular dealers to supply the products of any domestic manufacturer on a Federal contract set aside for small businesses; service-disabled veteran-owned small businesses or SBA's 8(a) Business Development Program.

DATES: Comments and source information must be submitted January 22, 2007.

ADDRESSES: You may submit comments and source information to Sarah Ayers, Program Analyst, U.S. Small Business Administration, Office of Government Contracting, 409 3rd Street, SW., Suite 8800, Washington, DC 20416.

FOR FURTHER INFORMATI0N CONTACT: Sarah Ayers, Program Analyst, by telephone at (202) 205-6413; by fax at (202) 205-6390; or by e-mail at sarah.ayers@sba.gov.

SUPPLEMENTARY INFORMATION: Section 8(a)(17) of the Small Business Act (Act), 15 U.S.C. 637(a)(17), requires that recipients of Federal contracts set aside for small businesses, service-disabled veteran-owned small businesses, or SBA's 8(a) Business Development Program provide the product of a small business manufacturer or processor, if the recipient is other than the actual manufacturer or processor of the product. This requirement is commonly referred to as the Nonmanufacturer Rule. The SBA regulations imposing this requirement are found at 13 CFR 121.406(b). Section 8(a)(17)(b)(iv) of the Act authorizes SBA to waive the Nonmanufacturer Rule for any “class of products” for which there are no small business manufacturers or processors available to participate in the Federal market.

As implemented in SBA's regulations at 13 CFR 121.1202(c), in order to be considered available to participate in the Federal market for a class of products, a small business manufacturer must have submitted a proposal for a contract solicitation or received a contract from the Federal Government within the last 24 months. The SBA defines “class of products” based on six digit coding system. The coding system is the Office of Management and Budget North American Industry Classification System (NAICS).

The SBA is currently processing a request to waive the Nonmanufacturer Rule for Re-refining Used Petroleum Lubricating Oils (MIL-PRF-2104, Type 10W; Type 15W40; Type 30W; and Type 40W). North American Industry Classification System (NAICS) code 324191.

The public is invited to comment or provide source information to SBA on the proposed waivers of the Nonmanufacturer Rule for this class of NAICS code within 15 days after date of publication in the Federal Register.

Arthur E. Collins,
Acting Associate Administrator for Government Contracting.

[FR Doc. E6-22624 Filed 1-4-07; 8:45 am]

BILLING CODE 8025-01-P